NATIONAL AERONAUTICS AND SPACE ADMINISTRATION

[Notice (01-154)]

Notice of Prospective Patent License

AGENCY: National Aeronautics and Space Administration.

ACTION: Notice of prospective patent license.

SUMMARY: NASA hereby gives notice that International Electronic Machines Corporation, 60 Fourth Avenue, Albany, New York, has applied for an exclusive license to practice the invention disclosed in U.S. Patent No. 5,726,632, entitled “Flame Imaging System,” which is assigned to the United States of America as represented by the Administrator of the National Aeronautics and Space Administration. Written objections to the prospective grant of a license should be sent to Randall M. Heald, Assistant Chief Counsel/Patent Counsel.

DATE(S): Responses to this notice must be received by December 26, 2001.

FOR FURTHER INFORMATION CONTACT: Randall M. Heald, Assistant Chief Counsel/Patent Counsel, John F. Kennedy Space Center, Mail Code CC-A, Kennedy Space Center, FL 32899, telephone (321) 867-7214.

Dated: November 30, 2001.
Edward A. Frankle,
General Counsel.

[FR Doc. 01-30425 Filed 12-7-01; 8:45 am]

BILLING CODE 7510-01-P